DEPARTMENT OF COMMERCE

National Oceanic and Atmospheric Administration

[I.D. 070901F]

Endangered and Threatened Species; Take of Anadromous Fish

AGENCY: National Marine Fisheries Service (NMFS), National Oceanic and Atmospheric Administration (NOAA), Commerce.

ACTION: Issuance of modifications to scientific research permits 1114, 1115, 1119, 1141, 1203 and issuance of scientific research permit 1292.

SUMMARY: NMFS has issued permit modifications to the Washington Department of Fish and Wildlife at Olympia, WA (WDFW); Chelan County Public Utility District (PUD) No. 1 at Wenatchee, WA; the Mid-Columbia River Fisheries Resource Office of the U.S. Fish and Wildlife Service at Leavenworth, WA (USFWS); Grant County PUD No. 2 at Ephrata, WA and has issued a permit to the Pacific Northwest Research Station of the U.S. Forest Service at La Grande, OR (USFS).

ADDRESSES: Copies of the permits may be obtained from Protected Resources Division, F/NWO3, 525 NE Oregon Street, Suite 500, Portland, OR 97232-2737, phone: 503-230-5400, fax: 503-230-5435.

FOR FURTHER INFORMATION CONTACT: Robert Koch, Portland, OR, phone: 503-230-5424, fax: 503-230-5435, e-mail: robert.koch@noaa.gov.

SUPPLEMENTARY INFORMATION: The following species and evolutionary significant units (ESUs) are covered in this notice:

Chinook salmon (Oncorhynchus tshawytscha): endangered, naturally produced and artificially propagated, upper Columbia River (UCR).

Steelhead (Oncorhynchus mykiss): endangered, naturally produced and artificially propagated, UCR.

Permit Modifications Issued

Notice was published on April 21, 1999 (64 FR 19515) that WDFW applied for a modification to scientific research/enhancement permit 1094. The permit modification request was subsequently converted to modification 3 to scientific research permit 1114. Modification 3 to permit 1114 was issued to WDFW on July 6, 2001. Permit 1114 authorizes WDFW annual takes of Endangered Species Act (ESA) listed adult and juvenile salmon and steelhead associated with two scientific research studies conducted at Rock Island Dam on the Columbia River. For modification 3, WDFW is authorized annual takes of ESA-listed adult steelhead associated with an additional study. The purpose of the additional study is to assess ESA-listed adult steelhead hydroelectric project passage and fallback rates (at the five dams on the mainstem upper Columbia River), migratory behavior, and spawning distribution within the upper Columbia River watersheds. ESA-listed adult steelhead will be collected at Priest Rapids Dam, tagged with gastrically implanted radiotransmitters, released, and tracked electronically. ESA-listed adult steelhead indirect mortalities associated with the research are also authorized. Modification 3 is valid for the duration of the permit which expires on December 31, 2002.

Notice was published on April 19, 2000 (65 FR 20954), that Chelan County PUD applied for modification 3 to scientific research permit 1115. Modification 3 to permit 1115 was issued on July 6, 2001. Permit 1115 authorizes Chelan County PUD annual takes of ESA-listed adult and juvenile salmon and steelhead associated with six scientific research studies. For modification 3, increases in annual takes of ESA-listed salmon and steelhead juveniles associated with four of the six studies are authorized. Chelan County PUD requires take increases because more effort and resources are being devoted to the research and thus, more fish are being handled. Take increases are also requested because in recent years, Chelan County PUD researchers have had to sort through more fish to find test animals for study purposes. Also for modification 3, Chelan County PUD is authorized an annual take of adult, endangered, UCR spring chinook salmon associated with a fish salvage operation at Rocky Reach Dam. Some ESA-listed adult chinook salmon that fallback after passing the dam tend to inadvertently enter and get trapped in the juvenile fish bypass system at the dam. The trapped adult fish will be collected using sanctuary nets and carefully returned to the Columbia River. Also for modification 3, Chelan County PUD is authorized annual takes of ESA-listed adult and juvenile salmon and steelhead associated with a new study designed to assess the abundance, distribution, and timing of the species’ spawning activity in the Chiwawa River, White River, Nason Creek, and the Little Wenatchee River in WA. ESA-listed adult and juvenile salmon and steelhead will be observed/harassed during snorkel surveys and spawning ground surveys. ESA-listed adult fish carcasses will also be collected and sampled for tissues and scales. Modification 3 is valid for the duration of the permit which expires on December 31, 2002.

Notice was published on March 22, 2000 (65 FR 15312), that USFWS applied for modification 2 to scientific research permit 1119. Modification 2 to permit 1119 was issued on July 6, 2001. Permit 1119 authorizes USFWS annual takes of ESA-listed adult and juvenile salmon and steelhead associated with four scientific research studies. For modification 2, USFWS is authorized an increase in the annual take of ESA-listed juvenile steelhead associated with the study (Study 1) designed to assess the annual emigration of emerging juvenile salmonids in the Entiat River Basin. USFWS determined that the previous level of steelhead take for the study is not enough to conduct a statistically valid assessment of the juvenile steelhead emigration from the Entiat River throughout the annual outmigration season. Also for modification 2, USFWS will obtain tissue samples from the ESA-listed adult spring chinook salmon carcasses that are authorized to be handled during routine spawning ground surveys in the Entiat River Basin and from the ESA-listed juvenile spring chinook salmon that are authorized to be handled under Study 1. Tissue samples will be transferred to the Northwest Fisheries Science Center, NMFS for genetic analysis. Modification 2 is valid for the duration of the permit which expires on December 31, 2002.

Notice was published on April 7, 2000 (65 FR 18310), that Grant County PUD applied for modification 2 to scientific research permit 1141. Modification 2 to permit 1141 was issued on July 6, 2001. Permit 1141 authorizes Grant County PUD annual takes of ESA-listed adult and juvenile salmon and steelhead associated with four scientific research studies at or in the vicinity of Wanapum and Priest Rapids Dams located on the upper Columbia River in WA. For modification 2, Grant County PUD is authorized an increase in the annual take of juvenile, endangered, artificially propagated, UCR steelhead associated with the steelhead survival study at Wanapum and Priest Rapids Dams. Also for modification 2, Grant County PUD is authorized annual takes of adult and juvenile, endangered, UCR spring chinook salmon and adult and juvenile, endangered, UCR steelhead associated with fish salvage efforts at Wanapum and Priest Rapids Dams. Each year, migrating fish are inadvertently entrained within the project’s wheelgate bulkhead gatewell slots during the annual spring and summer migration periods. Without assistance, the fish would remain within the gatewells for periods ranging from a few days to weeks and even months. Migrating fish, including some downstream migrating steelhead kelts, will be removed from the gatewells via boom truck, gatewell dip-net, hopper box, or sanctuary box and transported to a temporary holding tank until release. Grant County PUD is also authorized annual takes of ESA-listed juvenile salmon and steelhead associated with efforts to monitor the condition of smolts subjected to salvage. ESA-listed juvenile fish indirect mortalities associated with fish salvage and monitoring activities are authorized. Modification 2 is valid for the duration of the permit which expires on December 31, 2002.

Notice was published on June 3, 1999 (64 FR 29839), and on March 22, 2000 (65 FR 15312), that WDFW applied for a modification to scientific research permit 1203. Modification 1 to permit 1203 was issued on July 6, 2001. Permit 1203 authorizes WDFW annual takes of ESA-listed adult and juvenile salmon and steelhead associated with four scientific research studies in the UCR Basin. For modification 1, WDFW is authorized annual takes of juvenile, endangered, artificially propagated, UCR spring chinook salmon and adult and juvenile, endangered, UCR steelhead associated with the Wenatchee River Basin production research. Also, an increase in the annual take of juvenile, endangered, naturally produced, UCR spring chinook salmon is authorized for the study. Also for modification 1, annual takes of adult and juvenile, endangered, UCR spring chinook salmon and adult and juvenile, endangered, artificially propagated, UCR steelhead are added to the UCR Basin spawning ground assessment study. Also for the permit modification, annual takes of juvenile, endangered, naturally produced, UCR steelhead are added to the salmonid habitat carrying capacity study and the salmonid distribution study. Also for modification 1, WDFW is authorized annual takes of ESA-listed adult and juvenile salmon and steelhead associated with fish salvage operations in dewatered areas in the Wenatchee River Basin. ESA-listed fish indirect mortalities associated with the research and/or enhancement activities are authorized. Modification 1 is valid for the duration of the permit which expires on December 31, 2003.

Notice was published on February 21, 2001 (66 FR 11002), that USFS applied for a scientific research permit (1292). Permit 1292 was issued to USFS on July 6, 2001. Permit 1292 authorizes USFS annual takes of ESA-listed juvenile salmon and steelhead associated with research to be conducted in the Yakima River, the Wenatchee River, the Entiat River, and the Methow River in WA. The purpose of the research is to determine the extent and distribution of hybridization between westslope cutthroat trout, rainbow trout, and anadromous steelhead for selected populations in the middle Columbia River and UCR Basins. The research will benefit the ESA-listed species by providing information on westslope cutthroat trout and rainbow trout/steelhead interactions and could provide insight into possible genetic introgression of introduced rainbow trout stocks in the areas of native rainbow trout/steelhead distribution. Permit 1292 expires on December 31, 2002.

The issuance of the permit modifications and the new permit is based on a finding that such permits: (1) were applied for in good faith; (2) would not operate to the disadvantage of the listed species which are the subject of the permits; and (3) are consistent with the purposes and policies set forth in section 2 of the ESA.

Dated: July 20, 2001.
Donna Brewer,
Acting Chief, Endangered Species Division, Office of Protected Resources, National Marine Fisheries Service.

[FR Doc. 01-18576 Filed 7-24-01; 8:45 am]

BILLING CODE 3510-22-S